INTERNATIONAL TRADE COMMISSION

[Investigation Nos. 701-TA-476 and 731-TA-1179 (Second Review)]

Multilayered Wood Flooring From China; Determination

On the basis of the record ¹ developed in the subject five-year reviews, the United States International Trade Commission (“Commission”) determines, pursuant to the Tariff Act of 1930 (“the Act”), that revocation of the countervailing and antidumping duty orders on multilayered wood flooring from China would be likely to lead to continuation or recurrence of material injury to an industry in the United States within a reasonably foreseeable time.

¹ The record is defined in § 207.2(f) of the Commission's Rules of Practice and Procedure (19 CFR 207.2(f)).

Background

The Commission instituted these reviews on December 1, 2022 (87 FR 73784) and determined on March 6, 2023 that it would conduct expedited reviews (88 FR 23097, April 14, 2023).

The Commission made these determinations pursuant to section 751(c) of the Act (19 U.S.C. 1675(c)). It completed and filed its determinations in these reviews on June 16, 2023. The views of the Commission are contained in USITC Publication 5435 (June 2023), entitled Multilayered Wood Flooring from China: Investigation Nos. 701-TA-476 and 731-TA-1179 (Second Review).

By order of the Commission.
Issued: June 16, 2023.
Sharon Bellamy,
Acting Supervisory Hearings and Information Officer.

[FR Doc. 2023-13317 Filed 6-22-23; 8:45 am]

BILLING CODE 7020-02-P